DEPARTMENT OF VETERANS AFFAIRS

Advisory Committee on Disability Compensation, Notice of Meeting

The Department of Veterans Affairs (VA) gives notice under the Federal Advisory Committee Act, 5 U.S.C. Ch. 10, that the Advisory Committee on Disability Compensation (hereinafter the Committee) will hold virtual meeting sessions on Tuesday, August 19, 2025, and Wednesday, August 20, 2025. The meeting sessions will begin, and end as follows:

Date | Time
Tuesday, August 19, 2025 | 10:00 a.m. to 2:00 p.m. Eastern Standard Time (EST).
Wednesday, August 20, 2025 | 10:00 a.m. to 2:00 p.m. EST.

The meeting sessions are open to the public.

The purpose of the Committee is to advise the Secretary of Veterans Affairs on the maintenance and periodic readjustment of the VA Schedule for Rating Disabilities (VASRD). The Committee is to assemble and review relevant information relating to the nature and character of disabilities arising during service in the Armed Forces, provide an ongoing assessment of the effectiveness of the rating schedule, and give advice on the most appropriate means of responding to the needs of Veterans relating to disability compensation.

On Tuesday, August 19, 2025, through Wednesday, August 20, 2025, the agenda will include a Federal Advisory Committee Act (FACA) overview presentation, updates on the VASRD, and briefings from various staff on ongoing VA initiatives and priorities.

In addition, on Tuesday, August 19, 2025, the public comment period will be open for 30 minutes from 1:20 p.m. to 1:50 p.m. EST. The public can also submit one-page summaries of their written statements for the Committee's review. Public comments may be received no later than Tuesday, August 12, 2025, for inclusion in the official meeting record. Please send these comments to Jadine Piper of the Veterans Benefits Administration, Compensation Service, at 21C_ACDC.VBACO@va.gov.

Members of the public who wish to obtain a copy of the agenda should contact Jadine Piper at 21C_ACDC.VBACO@va.gov and provide their name, professional affiliation, email address, and phone number. The call-in number for those who would like to attend the meeting is: 872-701-0185; phone conference ID: 963 277 145#. Members of the public may also access the meeting by pasting the following URL into a web browser: https://gcc02.safelinks.protection.outlook.com/?url=https%3A%2F%2Fbit.ly%2FACDCAugust2025&data=05%7C02%7C%7Cbd118338c51442c8f90b08dd979f3b8d%7Ce95f1b23abaf45ee821db7ab251ab3bf%7C0%7C0%7C638833432328219581%7CUnknown%7CTWFpbGZsb3d8eyJFbXB0eU1hcGkiOnRydWUsIlYiOiIwLjAuMDAwMCIsIlAiOiJXaW4zMiIsIkFOIjoiTWFpbCIsIldUIjoyfQ%3D%3D%7C0%7C%7C%7C&sdata=2phlx8XrkAXlYXksONVZKc%2Fz0He1KY93sB1Pu1SZPBU%3D&reserved=0.

Dated: June 26, 2025.
Jelessa M. Burney,
Federal Advisory Committee Management Officer.

[FR Doc. 2025-12019 Filed 6-27-25; 8:45 am]

BILLING CODE 8320-01-P